DEPARTMENT OF LABOR

Employment and Training Administration

[TA-W-39,775]

Harriet & Henderson Yarns, Inc., Henderson, NC; Notice of Termination of Investigation

Pursuant to section 221 of the Trade Act of 1974, an investigation was initiated on August 6, 2001, in response to a petition filed on behalf of workers at Harriet & Henderson Yarns, Inc., located in Henderson, North Carolina.

A company official has requested that the petition be withdrawn. Consequently, further investigation in this case would serve no purpose, and the investigation has been terminated.

Signed in Washington, DC, this 30th day of October, 2001.
Linda G. Poole,
Certifying Officer, Division of Trade Adjustment Assistance.

[FR Doc. 01-28171 Filed 11-8-01; 8:45 am]

BILLING CODE 4510-30-M